DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Marine Mammal Stranding Reports/Marine Mammal Rehabilitation Disposition Report/Human Interaction Data Sheet.

OMB Control Number: 0648-0178.

Form Number(s): None.

Type of Request: Regular (revision and extension of a currently approved information collection).

Number of Respondents: 400.

Average Hours per Response: Level A Stranding Report and Rehabilitation Dispoition Report, 30 minutes each; human interaction report, 45 minutes.

Burden Hours: 8,238.

Needs and Uses: This request is for revision and extension of a currently approved information collection. A Human Interaction Data Sheet will be added to this data collection, and the currently approved forms in this collection (the Stranding Report form and Rehabilitation Disposition data sheet) have been slightly modified.

The marine mammal stranding report provides information on strandings so that the National Marine Fisheries Service (NMFS) can compile and analyze, by region, the species, numbers, conditions, and causes of illnesses and deaths in stranded marine mammals. NMFS requires this information to fulfill its management responsibilities under the Marine Mammal Protection Act (16 U.S.C. 1421a). NMFS is also responsible for the welfare of marine mammals while in rehabilitation status. The data from the marine mammal rehabilitation disposition report are required for monitoring and tracking of marine mammals held at various NMFS-authorized facilities. This information is submitted primarily by members of the marine mammal stranding networks which are authorized by NMFS. A new human interaction data sheet will provide NMFS with consistent and detailed information on signs of human interaction in stranded marine mammals. This information will assist the Agency in tracking resource conflicts and will provide a solid scientific foundation for conservation and management of marine mammals. With a better understanding of interactions, appropriate measures can be taken to resolve conflicts and, stranding data are the best source of information regarding the occurrence of different types of human interaction.

Affected Public: Business and other for profit organizations; not for profit institutions; individuals and households; Federal government, state, local or tribal government.

Frequency: On occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: February 22, 2017.
Sarah Brabson,
NOAA PRA Clearance Officer.

[FR Doc. 2017-03833 Filed 2-27-17; 8:45 am]

BILLING CODE 3510-22-P